ENVIRONMENTAL PROTECTION AGENCY

[FRL-6874-8]

Agency Information Collection Activities Amendment

AGENCY: Environmental Protection Agency (EPA).

ACTION: Notice.

SUMMARY: In compliance with the Paperwork Reduction Act (44 U.S.C. 3506 (c)(2)), this notice announces an amendment to existing Information Collection Request (ICR) 2060-0078, “Mobile Source Emission Factor Survey.” Before submitting the renewal package to the Office of Management and Budget (OMB), EPA is soliciting comments on this amendment.

DATES: Comments must be submitted on or before November 21, 2000.

ADDRESSES: U.S. Environmental Protection Agency, Office of Transportation and Air Quality, Assessment and Standards Division, 2000 Traverwood Drive, Ann Arbor, MI 48105.

FOR FURTHER INFORMATION CONTACT: Penny Carey, Telephone: (734) 214-4355, Facsimile: (734) 214-4939.

SUPPLEMENTARY INFORMATION: Affected Entities: The entity affected by this action is the general public who own mobile sources.

Title: Mobile Source Emission Factor Survey—2060-0078.

Abstract: The EPA Office of Transportation and Air Quality, Assessment and Standards Division, through contractors, intends to solicit the general public to voluntarily participate in survey and testing activities involving mobile sources.

EPA will use the information from this survey and testing to provide inputs to various emissions models. These models are used by EPA, state and local air pollution agencies, the automotive industry, and other parties that are interested in estimating mobile source emissions. These models provide a basis for developing State Implementation Plans (SIPs), Reasonable Further Progress (RFP) reports, and attainment status assessments for the National Ambient Air Quality Standards (NAAQS).

The legislative basis for gathering this data is section 103(a)(1)(2)(3) of the Clean Air Act, which requires the Administrator to “conduct * * * research, investigations, experiments, demonstrations, surveys, and studies relating to the causes, effects, extent, prevention, and control of air pollution” and “conduct investigations and research and make surveys concerning any specific problem of air pollution in cooperation with any air pollution control agency * * *”

The EPA would like to solicit comments to:

(i) Evaluate whether the proposed collection of information is necessary for the proper performance of the functions of the agency, including whether the information will have practical utility;

(ii) Evaluate the accuracy of the agency's estimate of the burden of the proposed collection of information; and

(iii) Minimize the burden of the collection of information on those who are to respond, including the use of appropriate automated technology, (e.g., permitting electronic submission of responses).

Burden Statement: Public reporting burden for this collection of information is estimated to range from ten minutes to an hour for responding to an ownership survey. Installation, removal, and reading of monitoring equipment may take up to 3 hours, although the contractor's personnel will do the actual work. Send comments regarding this burden estimate or any other aspect of this collection of information, including suggestions for reducing the burden, to:

Chief, Information Policy Branch, PM-223, U.S. Environmental Protection Agency, 401 M St., S.W., Washington, DC 20460;

and the Paperwork Reduction Project (OMB #2060-0078),

Office of Information and Regulatory Affairs, Office of Management and Budget, Washington, D.C. 20503.

No person is required to respond to a collection of information unless it displays a currently valid OMB control number. The OMB control numbers for EPA's regulations are displayed in 40 CFR part 9.

Send comments regarding these matters, or any other aspect of the information collection, including suggestions for reducing the burden, to the address listed above.

Dated: September 6, 2000.
Penny Carey,
Chemical Engineer.

[FR Doc. 00-24434 Filed 9-21-00; 8:45 am]

BILLING CODE 6560-50-P